DEPARTMENT OF TRANSPORTATION

Office of the Secretary

Aviation Proceedings, Agreements Filed the Week Ending February 11, 2005

The following Agreements were filed with the Department of Transportation under the provisions of 49 U.S.C. Sections 412 and 414. Answers may be filed within 21 days after the filing of the application.

Docket Number: OST-2005-20362.

Date Filed: February 8, 2005.

Parties: Members of the International Air Transport Association

Subject: Mail Vote 434—Memorandum PTC1 0317 dated 8 February 2005 Resolution 010i—TC1 Special Passenger Amending Resolution—Within South America r1-r7. Intended effective date: 21 February 2005.

Docket Number: OST-2005-20382.

Date Filed: February 10, 2005.

Parties: Members of the International Air Transport Association.

Subject: Mail Vote 435—PTC3 0824 dated 11 February 2005—Resolution 010j—Special Passenger Amending Resolution between Japan and Russia (in Asia)—r1-r6. Intended effective date: 1 March 2005.

Renee V. Wright,
Acting Program Manager, Alternate Federal Register Liaison.

[FR Doc. 05-3760 Filed 2-25-05; 8:45 am]

BILLING CODE 4910-62-P